DEPARTMENT OF TRANSPORTATION

Federal Aviation Administration

14 CFR Part 71

[Docket No. FAA-2024-2458; Airspace Docket No. 23-AGL-27]

RIN 2120-AA66

Amendment of VOR Federal Airways V-9, V-78, V-341, and V-430, and Canadian RNAV Route T-765, and Establishment of United States RNAV Route T-490; Northcentral United States

AGENCY: Federal Aviation Administration (FAA), DOT.

ACTION: Final rule.

SUMMARY: This action amends Very High Frequency Omnidirectional Range (VOR) Federal Airways V-9, V-78, V-341, and V-430, and Canadian Area Navigation (RNAV) Route T-765; and establishes United States (U.S.) RNAV Route T-490. The FAA is taking this action due to the planned decommissioning of the VOR portion of the Iron Mountain, MI (IMT), VOR/Distance Measuring Equipment (VOR/DME) navigational aid (NAVAID). The Iron Mountain VOR is being decommissioned in support of the FAA's VOR Minimum Operational Network (MON) program.

DATES: Effective date 0901 UTC, April 17, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) as necessary to preserve the safe and efficient flow of air traffic.

History

The FAA published an NPRM for Docket No. FAA-2024-2458 in the Federal Register (89 FR 87985; November 6, 2024), proposing to amend VOR Federal Airways V-9, V-78, V-341, and V-430, and Canadian RNAV Route T-765; and establish U.S. RNAV Route T-490 due to the planned decommissioning of the VOR portion of the Iron Mountain, MI, VOR/DME NAVAID. Interested parties were invited to participate in this rulemaking effort by submitting written comments on the proposal. No comments were received.

Differences From the NPRM

Subsequent the NPRM, the FAA published a rule for Docket No. FAA-2024-1048 in the Federal Register (89 FR 81339; October 8, 2024), amending VOR Federal Airway V-9 by removing the airway segment between the Spinner, IL, VOR/Tactical Air Navigation (VORTAC) and the Pontiac, IL, VOR/DME. That airway amendment, effective December 26, 2024, is included in this rule.

Incorporation by Reference

VOR Federal Airways are published in paragraph 6010(a), United States Area Navigation Routes are published in paragraph 6011, and Canadian Area Navigation Routes are published in paragraph 6013 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending VOR Federal Airways V-9, V-78, V-341, and V-430, and Canadian RNAV Route T-765; and establishing U.S. RNAV Route T-490. This action is required due to the planned decommissioning of the VOR portion of the Iron Mountain, MI, VOR/DME NAVAID. The ATS route actions are described below.

V-9: Prior to this final rule, V-9 extended between the Leeville, LA, VORTAC and the Spinner, IL, VORTAC; and between the Janesville, WI, VOR/DME and the Houghton, MI, VOR/DME. The airway segment between the Green Bay, WI, VORTAC and the Houghton VOR/DME is removed. As amended, the airway is changed to now extend between the Leeville VORTAC and the Spinner VORTAC, and between the Janesville VOR/DME and the Green Bay VORTAC.

V-78: Prior to this final rule, V-78 extended between the Gopher, MN, VORTAC and the Escanaba, MI, VOR/DME; and between the Pellston, MI, VORTAC and the Saginaw, MI, VOR/DME. The airway segment between the Rhinelander, WI, VOR/DME and the Escanaba VOR/DME is removed. As amended, the airway is changed to now extend between the Gopher VORTAC and the Rhinelander VOR/DME, and between the Pellston VORTAC and the Saginaw VOR/DME.

V-341: Prior to this final rule, V-341 extended between the Cedar Rapids, IA, VOR/DME and the Green Bay, WI, VORTAC; and between the Iron Mountain, MI, VOR/DME and the Houghton, MI, VOR/DME. The airway segment between the Iron Mountain VOR/DME and the Houghton VOR/DME is removed. As amended, the airway is changed to now extend between the Cedar Rapids VOR/DME and the Green Bay VORTAC.

V-430: Prior to this final rule, V-430 extended between the Cut Bank, MT, VOR/DME and the Minot, ND, VOR/DME; and between the Grand Forks, ND, VOR/DME and the Escanaba, MI, VOR/DME. The airway segment between the Ironwood, MI, VOR/DME and the Escanaba VOR/DME is removed. As amended, the airway is changed to now extend between the Cut Bank VOR/DME and the Minot VOR/DME, and between the Grand Forks VOR/DME and the Ironwood VOR/DME.

T-490: T-490 is a new U.S. RNAV route being established to extend between the Ironwood, MI, VOR/DME and the Escanaba, MI, VOR/DME. The new RNAV route mitigates the V-430 airway segment being removed and provides route guidance for aircraft around the Big Bear, MI, Military Operations Area (MOA).

T-765: Prior to this final rule, T-765 extended between the Houghton, MI, VOR/DME and the BBLUE, MI, Waypoint (WP) on the U.S./Canada border; between the ASIXX, MN, WP on the U.S./Canada border and the KORTY, MN, WP on the U.S./Canada border; and between the LCROS, MN, WP on the U.S./Canada border and the CALDU, MN, WP on the U.S./Canada border. The route is extended southward to the Green Bay, WI, VORTAC to serve as a RNAV replacement for the airway segment of V-9 being removed. As amended, the route is changed to now extend between the Green Bay VORTAC and the BBLUE WP; between the ASIXX WP and the KORTY WP; and between the LCROS WP and the CALDU WP.

The NAVAID radials listed in the VOR Federal airway descriptions in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending VOR Federal Airways V-9, V-78, V-341, and V-430, and Canadian RNAV Route T-765; and establishing U.S. RNAV Route T-490 due to the planned decommissioning of the VOR portion of the Iron Mountain, MI, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order 7400.11J, Airspace Designations and Reporting Points, dated July 31, 2024, and effective September 15, 2024, is amended as follows:

Paragraph 6010(a) VOR Federal Airways.

* * * * *

V-9 [Amended]

From Leeville, LA; Mc Comb, MS; INT Mc Comb 004° and Magnolia, MS 194° radials; Magnolia; Sidon, MS; Marvell, AR; INT Marvell 326° and Walnut Ridge, AR 187° radials; Walnut Ridge; Farmington, MO; St. Louis, MO; to Spinner, IL. From Janesville, WI; Madison, WI; Oshkosh, WI; to Green Bay, WI.

* * * * *

V-78 [Amended]

From Gopher, MN; INT Gopher 091° and Eau Claire, WI, 290° radials; Eau Claire; to Rhinelander, WI. From Pellston, MI; Alpena, MI; INT Alpena 232° and Saginaw, MI, 353° radials; to Saginaw.

* * * * *

V-341 [Amended]

From Cedar Rapids, IA; Dubuque, IA; Madison, WI; Oshkosh, WI; to Green Bay, WI.

* * * * *

V-430 [Amended]

From Cut Bank, MT; 10 miles, 74 miles 55 MSL, Havre, MT; 14 miles, 100 miles 50 MSL, Glasgow, MT; INT Glasgow 100° and Williston, ND, 263° radials; 22 miles, 33 miles 55 MSL, Williston; to Minot, ND. From Grand Forks, ND; Thief River Falls, MN; INT Thief River Falls 122° and Grand Rapids, MN, 292° radials; Grand Rapids; Duluth, MN; to Ironwood, MI.

* * * * *

Paragraph 6011 United States Area Navigation Routes.

* * * * *

T-490 Ironwood, MI (IWD) to Escanaba, MI (ESC) [New]
Ironwood, MI (IWD) | VOR/DME | (Lat. 46°31′56.12″ N, long. 090°07′33.06″ W)
BBEAR, MI | WP | (Lat. 45°48′57.67″ N, long. 088°06′42.85″ W)
Escanaba, MI (ESC) | VOR/DME | (Lat. 45°43′21.49″ N, long. 087°05′22.55″ W)

* * * * *

Paragraph 6013 Canadian Area Navigation Routes.

* * * * *

T-765 Green Bay, WI (GRB) to CALDU, MN [Amended]
Green Bay, WI (GRB) | VORTAC | (Lat. 44°33′18.58″ N, long. 088°11′41.49″ W)
BBEAR, MI | WP | (Lat. 45°48′57.67″ N, long. 088°06′42.85″ W)
Houghton, MI (CMX) | VOR/DME | (Lat. 47°10′12.94″ N, long. 088°29′07.41″ W)
BBLUE, MI | WP | (Lat. 48°01′10.44″ N, long. 089°13′39.22″ W)
and
ASIXX, MN | WP | (Lat. 48°30′56.17″ N, long. 092°37′34.98″ W)
International Falls, MN (INL) | VOR/DME | (Lat. 48°33′56.87″ N, long. 093°24′20.44″ W)
KORTY, MN | WP | (Lat. 48°35′20.54″ N, long. 093°27′59.55″ W)
and
LCROS, MN | WP | (Lat. 49°03′44.39″ N, long. 094°44′18.17″ W)
CALDU, MN | WP | (Lat. 49°12′42.53″ N, long. 095°09′11.89″ W)

* * * * *

Issued in Washington, DC, on January 29, 2025.
Brian Eric Konie,
Manager (A), Rules and Regulations Group.

[FR Doc. 2025-02142 Filed 2-3-25; 8:45 am]

BILLING CODE 4910-13-P